ENVIRONMENTAL PROTECTION AGENCY

[ER-FRL-6696-8]

Environmental Impacts Statements; Notice of Availability

Responsible Agency: Office of Federal Activities, General Information (202) 564-7167 or http://www.epa.gov/compliance/nepa/

Weekly Receipt of Environmental Impact Statements Filed 03/03/2008 Through 03/07/2008

Pursuant to 40 CFR 1506.9.

EIS No. 20080080, Second Draft Supplement, COE, CA, Santa Ana River Interceptor (SARI) Protection/Relocation Project, Reduce the Risk of Damage to the SARI to allow for the Operation of Santa Ana River Project (SARP), and Releases from Prado Dam of up to 30,000 cubic feet per second (cfs), Right-of-Way Permit and U.S. COE Section 404 Permit, Orange and Riverside Counties, CA, Comment Period Ends: 04/28/2008, Contact: Raina Fulton 213-452-3872.

EIS No. 20080081, Final EIS, FHW, CA, Interstate 405 (San Diego Freeway) Sepulveda Pass Widening Project, Widening and High Occupancy Vehicle (HOV) Improvements from Interstate 10 to U.S.-101 in the City of Los Angeles, Preferred Alternative is 2, Los Angeles County, CA, Wait Period Ends: 04/14/2008, Contact: Cesar Perez 916-498-5065.

EIS No. 20080082, Final EIS, AFS, ID, Cherry Dinner Project, Management of Vegetation, Hazardous Fuels, and Access Plus Watershed Improvements, Amendment to the Forest Plan, Palouse Ranger District, Clearwater National Forest, Latah County, ID, Wait Period Ends: 04/14/2008, Contact: Kara Chadwick 208-875-1131.

EIS No. 20080083, Draft Supplement, AFS, WV, Lower Williams Project Area (LWPA), Additional Information, Proposed to Perform Vegetation Management and Wildlife Habitat Improvements, Implementation, Gauley Ranger District, Monongahela National Forest, Webster County, WV, Comment Period Ends: 04/28/2008, Contact: O'Dell Tucker 304-799-4334 Ext 19.

EIS No. 20080084, Draft Supplement, AFS, UT, West Bear Vegetation Management Project, Additional Information to Improve a Portion of the Cumulative Effects Analysis and Correct the Soils Analysis, Timber Harvesting, Prescribed Burning, Roads Construction, Township 1 North, Range 9 East, Salt Lake Principle Meridian, Evanston Ranger District, Wasatch-Cache National Forest, Summit County, UT, Comment Period Ends: 04/28/2008, Contact: Larry Johnson 307-783-3194.

EIS No. 20080085, Final EIS, NPS, WA, Olympic National Park General Management Plan, Implementation, Clallam, Grays Harbor, Jefferson and Mason Counties, WA, Wait Period Ends: 04/14/2008, Contact: Nancy Hendricks 360-565-3008.

EIS No. 20080086, Draft Supplement, FTA, NJ, Access to the Region's Core Project, Additional Information on the Build Alternative, To Increase Trans-Hudson Commuter Rail Capacity, Improve System Safety and Reliability between Secaucus Junction Station in NJ and midtown Manhattan, Funding, Hudson County, NJ and New York County, NY, Comment Period Ends: 04/28/2008, Contact: Donald Burns 212-668-2182.

EIS No. 20080087, Final EIS, FRC, 00, Fayetteville/Greenville Expansion Project, Construction and Operation of the Natural Gas Pipeline Facilities in Arkansas and Mississippi, Wait Period Ends: 04/14/2008, Contact: Andy Black 1-866-208-3372.

EIS No. 20080088, Final EIS, FHW, MT, Miller Creek Road Project, To Provide Safe and Improved Access between U.S. 93 and the Miller Creek Area, Missoula County, MT, Wait Period Ends: 04/14/2008, Contact: Craig Genzlinger 406-449-5302 Ext 240.

EIS No. 20080089, Final EIS, BLM, CA, United States Gypsum Expansion/Modernization Project, Expand and Upgrade Plaster City Plant to Increase Wallboard Production Capacity with Related Increases in Water Supply, Right-of-Way Grant, Imperial County, CA, Wait Period Ends: 04/14/2008, Contact: Erin Dreyfuss 760-337-4436.

Amended Notices

EIS No. 20070514, Draft EIS, AFS, CO, San Juan Public Lands, Draft Land Management Plan (DLMP), Implementation, San Juan National Forest, Archuleta, Conejos, Dolores, Hinsdale, LaPlata, Mineral, Montezuma, Montrose, Rio Grande, San Juan and San Miguel Counties, CO, Comment Period Ends: 04/11/2008, Contact: Gary Thrash 970-247-4874. Revision of FR Published 12/14/2007: Extending Comment Period from 03/12/2008 to 04/11/2008.

EIS No. 20080019, Draft EIS, MMS, 00, Cape Wind Energy Project, Construction, Operation and Maintenance, and Decommissioning of a Electric Generation Facility, Barnstable, Nantucket and Duke County, MA and Washington County, RI, Comment Period Ends: 04/21/2008, Contact: Dr. Rodney E. Cluck 703-787-1087. Revision of FR Published 01/18/2008: Extending Comment Period from 03/20/2008 to 04/21/2008.

Dated: March 11, 2008.
Robert W. Hargrove,
Director, NEPA Compliance Division, Office of Federal Activities.

[FR Doc. E8-5184 Filed 3-13-08; 8:45 am]

BILLING CODE 6560-50-P